DEPARTMENT OF TRANSPORTATION

Federal Aviation Administration

14 CFR Part 71

[Docket No. FAA-2022-1448; Airspace Docket No. 21-AWP-58]

RIN 2120-AA66

Amendment of Class E Airspace; Hanford Municipal Airport, CA

AGENCY: Federal Aviation Administration (FAA), Department of Transportation (DOT).

ACTION: Final rule.

SUMMARY: This action modifies the Class E airspace extending upward from 700 feet above the surface at Hanford Municipal Airport CA. It adds a radius to the Class E airspace, removes an extension to the east of the airport, and modifies the extensions to the southeast and northwest of the airport. These actions will support the safety and management of instrument flight rule (IFR) operations at the airport.

DATES: Effective 0901 UTC, June 15, 2023. The Director of the Federal Register approves this incorporation by reference under Title 1 CFR part 51, subject to the annual revision of FAA Order JO 7400.11, Airspace Designations and Reporting Points, and publication of conforming amendments.

ADDRESSES: FAA Order JO 7400.11G, and subsequent amendments can be viewed online at www.faa.gov/air_traffic/publications/. For further information, you can contact the Airspace Policy Group, Federal Aviation Administration, 800 Independence Avenue SW, Washington, DC 20591; telephone: (202) 267-8783.

FOR FURTHER INFORMATION CONTACT: Keith Adams, Federal Aviation Administration, Western Service Center, Operations Support Group, 2200 S 216th Street, Des Moines, WA 98198; telephone (206) 231-2428.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it modifies the Class E airspace at Hanford Municipal Airport, CA, to support IFR operations at the airport.

History

The FAA published a notice of proposed rulemaking (NPRM) in the Federal Register for FAA-2022-1448 (87 FR 77043; December 16, 2022) to modify the Class E airspace extending upward from 700 feet above the surface at Hanford Municipal Airport, CA. It proposed to add a 2.8-mile circular radius of the airport to properly contain circling maneuvers. This action also proposed to remove an airspace extension to the northeast of the airport as it is no longer needed due to the decommissioning of the Visalia very high frequency omnidirectional range/distance measuring equipment (VOR/DME) navigational aid (NAVAID) and its associated instrument approach procedure. Additionally, this action proposed a modification to the extensions southeast and northwest of the airport to more adequately contain arriving IFR operations below 1,500 feet above the surface on the Area Navigation (RNAV) Global Positioning System (GPS) Runway (RWY) 32 and RNAV (GPS)-B RWY 32 approaches and departing IFR operations until they reach 1,200 feet above the surface at the airport. Interested parties were invited to participate in this rulemaking effort by submitting written comments on the proposal to the FAA. No comments were received.

Availability and Summary of Documents for Incorporation by Reference

This document amends FAA Order JO 7400.11G, Airspace Designations and Reporting Points, dated August 19, 2022, and effective September 15, 2022. FAA Order JO 7400.11G is publicly available as listed in the ADDRESSES section of this document. FAA Order JO 7400.11G lists Class A, B, C, D, and E airspace areas, air traffic service routes, and reporting points.

The Rule

The FAA is amending 14 CFR part 71 by modifying the Class E airspace extending upward from 700 feet above the surface at Hanford Municipal Airport, CA. A 2.8-mile radius of the airport is established to properly contain circling maneuvers at the airport. The extension to the northeast of the airport is removed due to the decommissioning of the VIS VOR NAVAID and its associated IFR arrival procedure. The extension to the southeast of the airport is realigned from the 152° bearing to the 142° bearing from the airport. It is narrowed to 2.4 miles either side of the 142° bearing from the airport and is also lengthened to 7 miles southeast of the airport. The extension to the northwest of the airport is realigned from the 332° bearing to the 345° bearing. It is narrowed to 2.4 miles either side of the 345° bearing from the airport and lengthened to 7 miles northwest of the airport.

The Class E5 airspace designation is published in paragraph 6005 of FAA Order JO 7400.11G, dated August 19, 2022, and effective September 15, 2022, which is incorporated by reference in 14 CFR 71.1. The Class E airspace designation listed in this document will be published subsequently in FAA Order JO 7400.11.

FAA Order JO 7400.11 is published annually and becomes effective on September 15.

Regulatory Notices and Analyses

The FAA has determined that this regulation only involves an established body of technical regulations for which frequent and routine amendments are necessary to keep them operationally current, is non-controversial, and unlikely to result in adverse or negative comments. It therefore: (1) is not a “significant regulatory action” under Executive Order 12866; (2) is not a “significant rule” under DOT regulatory policies and procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, Environmental Impacts: Policies and Procedures, paragraph 5-6.5a. This airspace action is not expected to cause any potentially significant environmental impacts, and no extraordinary circumstances exist that warrant the preparation of an environmental assessment.

List of Subjects in 14 CFR Part 71

Airspace, incorporation by reference, navigation (air).

Adoption of the Amendment

In consideration of the foregoing, the FAA amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR part 71.1 of FAA Order JO 7400.11G, Airspace Designations and Reporting Points, dated August 19, 2022, and effective September 15, 2022, is amended as follows:

Paragraph 6005 Class E Airspace Areas Extending Upward From 700 Feet or More Above the Surface of the Earth.

* * * * *

AWP CA E5 Hanford, CA [Amended]

Hanford Municipal Airport, CA

(Lat. 36°19′00″ N, long. 119°37′40″ W)

That airspace extending upward from 700 feet above the surface within a 2.8-mile radius of the airport, and within 2.4 miles each side of the 142° bearing from the airport extending from the 2.8-mile radius to 7 miles southeast of the airport, and within 2.4 miles each side of the 345° bearing from the airport extending from the 2.8-mile radius to 7 miles north of the airport.

Issued in Des Moines, Washington, on February 27, 2023.
B.G. Chew,
Group Manager, Operations Support Group, Western Service Center.

[FR Doc. 2023-04587 Filed 3-6-23; 8:45 am]

BILLING CODE 4910-13-P